DEPARTMENT OF LABOR

Office of the Secretary

Submission for OMB Review; Comment Request

April 8, 2005.

The Department of Labor (DOL) has submitted the following public information collection request (ICR) to the Office of Management and Budget (OMB) for review and approval in accordance with the Paperwork Reduction Act of 1995 (Pub. L. 104-13, 44 U.S.C. Chapter 35). A copy of each ICR, with applicable supporting documentation, may be obtained by contacting the Department of Labor (DOL). To obtain documentation, contact Ira Mills on 202-693-4122 (this is not a toll-free number) or e-mail: mills.ira@dol.gov.

Comments should be sent to Office of Information and Regulatory Affairs, Attn: OMB Desk Officer for DOL, Office of Management and Budget, Room 10235, Washington, DC 20503 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment and Training Administration.

Type of Review: Extension of a currently approved collection.

Title: Unemployment Insurance (UI) State Quality Service Plan.

OMB Number: 1205-0132.

Frequency: Quarterly; and Annually.

Affected Public: State, local, or tribal government.

Number of Respondents: 53.

Number of Annual Responses: 583.

Estimated Time per Response: 3.14 hours.

Total Burden Hours: 1829.

Total annualized capital/startup costs: $0.

Total annual costs (operating/maintaining systems or purchasing services): $0.

Description: The State Quality Service Plan represents an approach to the unemployment insurance performance management and planning process that allows for an exchange of information between the federal and state partners to enhance the ability of the program to reflect the joint commitment to performance excellence and client centered services.

Ira L. Mills,
Departmental Clearance Officer/Team Leader.

[FR Doc. 05-7493 Filed 4-13-05; 8:45 am]

BILLING CODE 4510-30-P